DEPARTMENT OF DEFENSE

Office of the Secretary

[Docket ID: DoD-2014-OS-0138]

Privacy Act of 1974; System of Records

AGENCY: U.S. Transportation Command, DoD.

ACTION: Notice to alter a system of records.

SUMMARY: The U.S. Transportation Command proposes to alter a system of records, F024 AF USTRANSCOM D DoD, entitled “Defense Transportation System Records” in its existing inventory of records systems subject to the Privacy Act of 1974, as amended. This system is transferring from the Department of the Air Force to the U.S. Transportation Command. This system be used to schedule the movement of individuals, and the movement and storage of personal property being transported in the DTS; to manifest and screen individuals and personal property being transported; to verify eligibility for transportation for customs, immigration and transportation security purposes, as well as to manage and optimize DoD transportation resources; to identify and trace lost shipments; to submit claims for damaged or lost shipments; to facilitate payment of commercial transportation service providers; and to monitor effectiveness of traffic management functions.

DATES: Comments will be accepted on or before October 27, 2014. This proposed action will be effective the day following the end of the comment period unless comments are received which result in a contrary determination.

ADDRESSES: You may submit comments, identified by dock number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Candice Velazquez, 618-220-4100.

SUPPLEMENTARY INFORMATION: The U.S. Transportation Command notices for systems of records subject to the Privacy Act of 1974 (5 U.S.C. 552a), as amended, have been published in the Federal Register and are available in FOR FURTHER INFORMATION CONTACT or from the Defense Privacy and Civil Liberties Office Web site at http://dpclo.defense.gov.

The proposed systems reports, as required by 5 U.S.C. 552a(r) of the Privacy Act, were submitted on April 7, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: September 22, 2014.
Aaron Siegel,
Alternate OSD Federal Register Liaison Officer, Department of Defense.

F024 AF USTRANSCOM D DoD

SYSTEM NAME:

Defense Transportation System Records (November 12, 2008, 73 FR 66872).

CHANGES:

Change system ID to read “FTRANSCOM 01 DoD.”

SYSTEM NAME:

Delete entry and replace with “Defense Transportation System (DTS) Records.”

SYSTEM LOCATION:

Delete entry and replace with “Installation Transportation Offices, Joint Personal Property Shipping Offices, Aerial and Surface Ports of Embarkation/Debarkation, and other Department of Defense organizations and elements world-wide responsible for manifesting and processing individuals and personal property being transported in the Defense Transportation System (DTS). Addresses may be obtained from the Commander, United States Transportation Command, Attn: TCJ4-P, 508 Scott Drive, Scott AFB, IL 62225-5357.”

CATEGORIES OF INDIVIDUALS COVERED BY THE SYSTEM:

Delete entry and replace with “Any individuals authorized to travel in the DTS as well as individuals whose personal property is being transported in the DTS.”

CATEGORIES OF RECORDS IN THE SYSTEM:

Delete entry and replace with “Individual's name, rank, unit identification code (UIC), Service affiliation, personal identifiers (such as Social Security Number (SSN), DoD ID Number, Employee Identification Number (EIN), military identification, passport number, blood type, driver's license number, address, telephone number, email address, emergency contact information) and other information relating to the movement of individuals and personal property in the DTS.”

AUTHORITY FOR MAINTENANCE OF THE SYSTEM:

Delete entry and replace with “Public Law 100-562, Imported Vehicle Safety Compliance Act of 1988; 5 U.S.C. 5726, Storage Expenses, Household Goods and Personal Effects; 10 U.S.C. 113, Secretary of Defense; 10 U.S.C. 3013, Secretary of the Army; 10 U.S.C. 5013, Secretary of the Navy; 10 U.S.C. 8013, Secretary of the Air Force; 19 U.S.C. 1498, Entry Under Regulations; 37 U.S.C. 476, Travel and Transportation Allowances, Dependents, Baggage and Household Effects; Federal Acquisition Regulation (FAR); Joint Federal Travel Regulation (JTR), Volumes I and II; DoD Directive 4500.9E, Transportation and Traffic Management; DoD Directive 5158.4, United States Transportation Command; DoD Instruction 4500.42, DoD Transportation Reservation and Ticketing Services; DoD Regulation 4140.1, DoD Materiel Management Regulation; DoD Regulation 4500.9, Defense Transportation Regulation; DoD Regulation 4515.13-R, Air Transportation Eligibility; and E.O. 9397 (SSN), as amended.”

PURPOSE(s):

Delete entry and replace with “To schedule the movement of individuals, and the movement and storage of personal property being transported in the DTS; to manifest and screen individuals and personal property being transported; to verify eligibility for transportation for customs, immigration and transportation security purposes, as well as to manage and optimize DoD transportation resources; to identify and trace lost shipments; to submit claims for damaged or lost shipments; to facilitate payment of commercial transportation service providers; and to monitor effectiveness of traffic management functions.”

ROUTINE USES OF RECORDS MAINTAINED IN THE SYSTEM, INCLUDING CATEGORIES OF USERS AND THE PURPOSES OF SUCH USES:

Delete entry and replace with “To private sector commercial transportation service providers, who are under contract with the DoD for shipment/storage of personal property, to identify ownership, schedule pickup and delivery of personal property, to include privately owned vehicles, motorcycles, and house trailers/motor homes, Bill of Lading for services rendered, personal property counseling checklist.

To U.S. Customs and Border Protection Declaration for personal property shipments, re-weigh of personal property, shipment evaluation and inspection reports, receipt for unaccompanied baggage, mobile home inspection record, temporary commercial storage at Government expense, accessorial services-mobile home, report of contractor services, and claims for loss and damage.

To create manifests on individuals and personal property being transported in the DTS and to disclose information to other federal agencies in order to screen them for customs, immigration, and transportation security purposes, as well as to manage and optimize DoD transportation resources.

To the designated authorized carriers under DoD contract and DoD authorizing activity, emergency contact information in the event of an emergency.

To other Federal agencies in order to manage and optimize DoD transportation resources, and to provide customs, immigration, and transportation security screening.

To the Department of State to locate individuals in the DTS.

To General Service Administration and Defense Government Accounting Activities for processing government Bills of Lading.

The Department of Defense Blanket Routine Uses may apply to this system.”

Policies and practices for storing, retrieving, accessing, retaining, and disposing of records in the system

Storage:

Delete entry and replace with “Paper records in file folders and electronic storage media.”

Retrievability:

Delete entry and replace with “Individual's name, SSN or other identifying number such as a military identification, driver's license, DoD ID Number or passport number; blood type, address, email address, telephone number, or emergency contact information.”

Safeguards:

Delete entry and replace with “Records are maintained in a secured environment accessible to authorized personnel having an official need-to-know. Automated segments are further protected by secure log-in, passwords, and Common Access Card.”

Retention and disposal:

Delete entry and replace with “Delete when the agency determines that they are no longer needed for administrative, legal, audit, or other operational purposes.”

System manager(s) and address:

Delete entry and replace with “Commander, United States Transportation Command, Attn: TCJ4-P, 508 Scott Drive, Scott AFB, IL 62225-5357.”

Notification procedure:

Delete entry and replace with “Individuals seeking to determine if information about themselves is contained in this system should address written inquiries to Commander, United States Transportation Command, Attn: TCJ4-P, 508 Scott Drive, Scott AFB, IL 62225-5357.

Requests should contain full name, SSN, current address and telephone number, and any information which will assist in locating the records requested (e.g. type of shipment, origin, destination, date of application).”

Record access procedures:

Delete entry and replace with “Individuals seeking access to information about themselves contained in this system should address written inquiries to Commander, United States Transportation Command, Attn: TCJ4-P, 508 Scott Drive, Scott AFB, IL 62225-5357.

Requests should contain full name, SSN, current address and telephone number, and any information which will assist in locating the records requested (e.g. type of shipment, origin, destination, date of application).”

Contesting record procedures:

Delete entry and replace with “The USTRANSCOM rules for accessing records and for contesting and appealing initial agency determinations may be obtained from the system manager.”

* * * * *

[FR Doc. 2014-22857 Filed 9-25-14; 8:45 am]

BILLING CODE 5001-06-P